PEACE CORPS

Information Collection Request: Submission for OMB Review

AGENCY: Peace Corps.

ACTION: 60-day notice and request for comments.

SUMMARY: The Peace Corps will be submitting the following information collection request to the Office of Management and Budget (OMB) for review and approval. The purpose of this notice is to allow 60 days for public comment in the Federal Register preceding submission to OMB. We are conducting this process in accordance with the Paperwork Reduction Act of 1995 (44 USC Chapter 35).

DATES: Comments must be submitted on or before April 1, 2014.

ADDRESSES: Comments should be addressed to Denora Miller, FOIA/Privacy Act Officer, Peace Corps, 1111 20th Street NW., Washington, DC 20526. Denora Miller can be contacted by telephone at 202-692-1236 or email at pcfr@mailto:ddunevant@peacecorps.govpeacecorps.gov. Email comments must be made in text and not in attachments.

FOR FURTHER INFORMATION CONTACT: Denora Miller at Peace Corps address above.

SUPPLEMENTARY INFORMATION: The Peace Corps and Paul D. Coverdell World Wise Schools need this information officially to enroll educators in the Correspondence Match program. The information is used to make suitable matches between the educators and currently serving Peace Corps Volunteers.

Title: Correspondence Match Educator Online Enrollment Form.

OMB Control Number: 0420-0540.

Type of Request: Extension without change of a currently approved collection.

Affected Public: Individuals and households.

Respondents Obligation to Reply: Voluntary.

Burden to the Public:

a. Estimated number of respondents: 10,000

b. Estimated average burden per response: 10 minutes

c. Frequency of response: One time

d. Annual reporting burden: 1667

e. Estimated annual cost to respondents: $0.00

General Description of Collection: The Correspondence Match Educator Enrollment Form is the first point of contact with the participating educator. It is Coverdell World Wise Schools' fundamental source of information from educators interested in participating in the Correspondence Match program. The information is used to make a suitable match between the educator and a Peace Corps Volunteer serving overseas. The information will be collected continuously as teachers choose to enroll, or continue participation, in the Correspondence Match program.

Request For Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on January 24, 2014.
Denora Miller,
FOIA/Privacy Act Officer, Management.

[FR Doc. 2014-01946 Filed 1-30-14; 8:45 am]

BILLING CODE 6051-01-P